DEPARTMENT OF ENERGY

Federal Energy Regulatory Commission

Combined Notice of Filings #1

Take notice that the Commission received the following electric rate filings:

Docket Numbers: ER14-1220-001

Applicants: California Independent System Operator Corporation

Description: 2014-04-24 Compliance Filing in Docket No. ER14-1220 to be effective 4/1/2014.

Filed Date: 4/24/14

Accession Number: 20140424-5193

Comments Due: 5 p.m. ET 5/15/14

Docket Numbers: ER14-1325-002

Applicants: Northern States Power Company, a Minneso, Northern States Power Company, a Wisconsin

Description: 2014_IA Amended to be effective 1/1/2014.

Filed Date: 4/25/14

Accession Number: 20140425-5209

Comments Due: 5 p.m. ET 5/16/14

Docket Numbers: ER14-1389-001

Applicants: Condon Wind Power, LLC

Description: Amended Change in Status Filing to be effective 4/29/2014.

Filed Date: 4/24/14

Accession Number: 20140424-5176

Comments Due: 5 p.m. ET 5/15/14

Docket Numbers: ER14-1390-001

Applicants: Lake Benton Power Partners LLC

Description: Amended MBR Tariff Filing to be effective 4/29/2014.

Filed Date: 4/24/14

Accession Number: 20140424-5177

Comments Due: 5 p.m. ET 5/15/14

Docket Numbers: ER14-1397-001

Applicants: Storm Lake Power Partners II, LLC

Description: Amended MBR Tariff Filing to be effective 4/29/2014.

Filed Date: 4/24/14

Accession Number: 20140424-5178

Comments Due: 5 p.m. ET 5/15/14

Docket Numbers: ER14-1768-000

Applicants: PJM Interconnection, L.L.C.

Description: Queue Position None; Original SA No. 3793 & Cancellation of SA No. 2368 to be effective 3/25/2014.

Filed Date: 4/24/14

Accession Number: 20140424-5175

Comments Due: 5 p.m. ET 5/15/14

Docket Numbers: ER14-1769-000

Applicants: Southern California Edison Company

Description: Notices of Cancellation with Several Interconnection Customers for Devers-Mirage to be effective 6/1/2013.

Filed Date: 4/25/14

Accession Number: 20140425-5000

Comments Due: 5 p.m. ET 5/16/14

Docket Numbers: ER14-1770-000

Applicants: Rhode Island Engine Genco, LLC

Description: First Revised MBR Tariff to be effective 4/26/2014.

Filed Date: 4/25/14

Accession Number: 20140425-5135

Comments Due: 5 p.m. ET 5/16/14

Docket Numbers: ER14-1771-000

Applicants: Rhode Island LFG Genco, LLC

Description: First Revised MBR Tariff to be effective 4/26/2014.

Filed Date: 4/25/14

Accession Number: 20140425-5137

Comments Due: 5 p.m. ET 5/16/14

Docket Numbers: ER14-1772-000

Applicants: PowerSmith Cogeneration Project, Limited

Description: Succession & Tariff Revisions to be effective 4/26/2014.

Filed Date: 4/25/14

Accession Number: 20140425-5157

Comments Due: 5 p.m. ET 5/16/14

Docket Numbers: ER14-1773-000

Applicants: Midcontinent Independent System Operator, Inc.

Description: 2014-04-25 Attachment P GFA Filing to be effective 6/24/2014.

Filed Date: 4/25/14

Accession Number: 20140425-5179

Comments Due: 5 p.m. ET 5/16/14

Docket Numbers: ER14-1774-000

Applicants: PacifiCorp

Description: Lehi Highland Sub Transmission Line Upgrade Construction Agreement to be effective 6/25/2014.

Filed Date: 4/25/14

Accession Number: 20140425-5180

Comments Due: 5 p.m. ET 5/16/14

Docket Numbers: ER14-1775-000

Applicants: SEP II, LLC

Description: SEP II, LLC FERC Electric Tariff No. 1 Market Based Rate Tariff to be effective 5/15/2014.

Filed Date: 4/25/14

Accession Number: 20140425-5193

Comments Due: 5 p.m. ET 5/16/14

Docket Numbers: ER14-1776-000

Applicants: Broken Bow Wind II, LLC

Description: Broken Bow Wind II, LLC FERC Electric Tariff No. 1 Market Based Rate Tariff to be effective 7/1/2014.

Filed Date: 4/25/14

Accession Number: 20140425-5201

Comments Due: 5 p.m. ET 5/16/14

Take notice that the Commission received the following electric securities filings:

Docket Numbers: ES14-38-000

Applicants: DTE Electric Company

Description: Application for Authorization to Issue Securities and Request for Exemption from Competitive Bidding Requirements of DTE Electric Company.

Filed Date: 4/25/14

Accession Number: 20140425-5031

Comments Due: 5 p.m. ET 5/16/14

Take notice that the Commission received the following public utility holding company filings:

Docket Numbers: PH14-10-000

Applicants: The Laclede Group, Inc.

Description: The LaClede Group, Inc. submits FERC 65-A Exemption Notification.

Filed Date: 4/25/14

Accession Number: 20140425-5210

Comments Due: 5 p.m. ET 5/16/14

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 25, 2014.
Nathaniel J. Davis, Sr.,
Deputy Secretary.

[FR Doc. 2014-10086 Filed 5-1-14; 8:45 am]

BILLING CODE 6717-01-P